DEPARTMENT OF AGRICULTURE

Notice of Meeting

AGENCY: USDA Forest Service, Siskiyou Resource Advisory Committee.

SUMMARY: The Siskiyou Resource Advisory Committee will meet on Friday, April 1, 2005 to discuss topics including orientation with new members, roles and responsibilities, overview of Secure Rural Schools and Community Self Determination Act, 2005 meeting schedule, electing a chair and use of overhead funds (12.5%). The meeting will be held at the Cave Junction City Hall, 222 W. Lister Street, Cave Junction, Oregon. It begins at 10 a.m., ends at 2 p.m.; the open public comments begin at 11:30 a.m. and ends at noon. Written comments may be submitted prior to the meeting and delivered to Designated Federal Official, Scott Conroy at the Rogue River-Siskiyou National Forest, P.O. Box 520, Medford, Oregon 97501.

FOR FURTHER INFORMATION CONTACT: Rogue River-Siskiyou National Forest Public Affairs Officer Patty Burel at (541) 858-2211, e-mail: pburel@fs.fed.us, or USDA Forest Service, PO Box 520, 333 West 8th Street, Medford, OR 97501.

Dated: February 23, 2005.
Scott Conroy,
Forest Supervisor.

[FR Doc. 05-4244 Filed 3-3-05; 8:45 am]

BILLING CODE 3410-11-M